ENVIRONMENTAL PROTECTION AGENCY

[ER-FRL-8591-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 6, 2008 (73 FR 19833).

Draft EISs

EIS No. 20080469, ERP No. D-FTA-K40270-HI, Honolulu High-Capacity Transit Corridor Project, Provide High-Capacity Transit Service on O'ahu from Kapolei to the University of Hawaii at Manoa and Waikiki, City and County of Honolulu, O'ahu, Hawaii.

Summary: EPA expressed environmental concerns about the proposed project's impacts to wetlands and water quality.

EPA also has concerns about environmental justice and noise impacts, and recommends that various resource agency consultation processes be completed and documented in the FEIS. Rating EC2.

EIS No. 20080474, ERP No. D-NPS-D61061-VA, Cedar Creek and Bella Grove National Historical Park, General Management Plan, Implementation, Frederick, Shenandoah, Warren Counties, VA.

Summary: EPA does not object to the proposed project. Rating LO.

EIS No. 20080477, ERP No. D-FTA-B40100-MA, Urban Ring Corridor—Phase 2 Project, Circumferential Transportation Improvements, Proposed Major New Bus Rapid Transit, Funding and Right-of-Way Permit, Located in the Municipalities of Boston, Brookline, Cambridge, Chelsea, Everett, Medford and Somerville, MA.

Summary: EPA expressed environmental concerns about air quality, indirect and cumulative impacts, and environmental justice. Rating EC2.

EIS No. 20080479, ERP No. D-FHW-J40187-UT, Geneva Road, Center Street/1600 West (Provo) to Geneva Road/SR-89 (Pleasant Grove), Improvements, US Army COE 404 Permit, Utah County, UT.

Summary: EPA expressed environmental concerns about air quality, and recommended that a compliance air quality analysis be included in the FEIS. Rating EC1.

EIS No. 20080502, ERP No. D-FTA-L54005-WA, East Link Rail Transit Project, Proposes to Construct and Operate an Extension of the Light Rail System from downtown Seattle to Mercer Island, Bellevue, and Redmond via Interstate 90, Funding and US Army COE Section 404 and 10 Permits, Seattle, WA.

Summary: EPA does not object to proposed project. Rating LO.

EIS No. 20080516, ERP No. D-NPS-L65563-AK, Legislative—Glacier Bay National Park Project, Authorize Harvest of Glaucous-Winged Gull Eggs by the Huna Tlingit, Implementation, AK.

Summary: EPA does not object to the action as proposed. Rating LO.

EIS No. 20080524, ERP No. D-STB-L59004-AK, Northern Rail Extension Project, Construct and Operate a Rail Line between Northern Pole, AK and Delta Junction, AK.

Summary: EPA expressed environmental concerns about the potential impacts to water quality, open water habitats, wetlands, stream channels, riparian areas, and ecological connectivity. Rating EC2.

EIS No. 20080529, ERP No. D-FHW-B40101-CT, North Hillside Road Extension on the University of Connecticut Storrs Campus, Hunting Lodge Road, US Army COE Section 404 Permit, in the town Mansfield, CT.

Summary: EPA expressed environmental concerns about the potential impacts to wetlands, air quality, and secondary/cumulative impacts. Rating EC2.

EIS No. 20080531, ERP No. D-USN-L11040-WA, Naval Base Kitsap—Bangor, Construct and Operate a Swimmer Interdiction Security System (SISS), Silverdale Kitsap County, WA.

Summary: EPA does not object to the proposed project. Rating LO.

EIS No. 20080532, ERP No. D-AFS-J61114-CO, Vail Ski Area's 2007 Improvement Project, Addressing Issues Related to the Lift and Terrain Network, Skier Circulation, Snowmaking Coverage, Guest Services Facilities, Special-Use-Permit, Eagle/Holy Cross Ranger District, White River National Forest, Eagle County, CO.

Summary: EPA expressed environmental concerns about direct and indirect impacts to Waters of the U.S., impacts of snowmaking on aquatic resources, cumulative impacts from growth and redevelopment, lack of analysis of energy use and greenhouse gas emissions, and the lack of consideration of climate change impacts on aquatic resources and Vail's ski area operations in general. Rating EC2.

EIS No. 20080540, ERP No. D-AFS-L65564-ID, Nez Perce National Forest (NPNF), Proposed Designated Routes and Areas for Motor Vehicle Use (DRMVU), Implementation, Idaho County, ID.

Summary: EPA expressed environmental concerns about potential impacts to water quality, fish, wildlife, soils and native vegetation from continued motorized use of roads and trails and motorized access to dispersed camping near streams, lakes and wetlands. Rating EC2.

EIS No. 20090002, ERP No. D-USN-D35063-VA, Norfolk Harbor Channel, Proposed Dredging to Deepen Five Miles of the Federal Navigation Channel in the Elizabeth River from Lamberts Bend to the Norfolk Naval Shipyard (NNSY), Norfolk and Portsmouth, VA.

Summary: EPA expressed environmental concerns about impacts to aquatic populations from the dredging of contaminated sediment. Rating EC1.

EIS No. 20090013, ERP No. D-CGD-A11083-00, Programmatic—Future of the U.S. Coast Guard Long Range Aids to Navigation (LORAN-C) Program, Implementation.

Summary: EPA does not object to the proposed project. Rating LO.

EIS No. 20090024, ERP No. D-FHW-H40397-MO, Interstate 70 Corridor Improvements, Kansas City to St. Louis, Updated Information, Evaluates if a Truck-Only Lane Strategy is Viable, Kansas City to St. Louis, MO.

Summary: EPA does not object to the proposed action. Rating LO.

Final EISs

EIS No. 20080470, ERP No. F-FHW-B40098-VT, Middlebury Spur Project, Improvements to the Freight Transportation System in the Town of Middlebury in Addison County to the Town of Pittsford in Rutland County, VT.

Summary: EPA has no objections to the proposed project.

EIS No. 20090003, ERP No. F-FHW-C40170-NY, Fort Drum Connector Route Project, Proposed Link between I-81 and U.S. Route 11 at the Fort Drum North Gate, Town of Le Ray and Pamelia, Jefferson County, NY.

Summary: EPA's previous issues have been resolved; therefore, EPA does not object to the proposed action.

EIS No. 20090020, ERP No. F-AFS-D65039-WV, Lower Williams Project Area (LWPA), Alternative 6 is the Preferred Alternative, Proposed to Perform Vegetation Management and Wildlife Habitat Improvements, Implementation, Gauley Ranger District, Monongahela National Forest, Webster County, WV.

Summary: EPA does not object to the proposed project.

EIS No. 20090027, ERP No. F-FHW-G40192-TX, Grand Parkway/State Highway 99 Improvement Project, Segment G, from Interstate Highway (IH) 45 to US 59, Funding, Right-of-Way Grant, U.S. Army COE Section 404 Permit, Harris and Montgomery Counties, TX.

Summary: EPA does not object to the proposed action.

EIS No. 20090029, ERP No. F-NSA-D11045-MD, Fort George G. Meade Utilities Upgrade Project, Proposes to Construct and Operate (1) North Utility Plant (2) South Generator Facility and (3) Central Boiler Plant, Fort George M. Meade, MD.

Summary: EPA's previous issues have been resolved; therefore, EPA does not object to the proposed action.

EIS No. 20090030, ERP No. F-COE-J11025-CO, Fort Carson Grow the Army Stationing Decision, Constructing New Facilities to Support Additional Soldiers and their Families, Portions of El Paso, Pueblo and Fremont Counties, CO.

Summary: No formal comment letter was sent to the preparing agency.

EIS No. 20090033, ERP No. FS-COE-G36072-AR, Fourche Bayou Basin Project, 1,750 Acre Bottomland Acquisition with Nature Appreciation Facilities, Development, Funding, City of Little Rock, Pulaski County, AR.

Summary: EPA does not object to the proposed action.

Dated: March 17, 2009.
Robert W. Hargrove,
Director, NEPA Compliance Division, Office of Federal Activities.

[FR Doc. E9-6149 Filed 3-19-09; 8:45 am]

BILLING CODE 6560-50-P